DEPARTMENT OF JUSTICE

Federal Bureau of Investigation

[OMB Number 1110-NEW]

Agency Information Collection Activities; Proposed eCollection of eComments Requested; New Collection

AGENCY: Laboratory Division-RSU, Federal Bureau of Investigation, Department of Justice

ACTION: 60-Day notice.

SUMMARY: The Laboratory Division-RSU, Federal Bureau of Investigation, Department of Justice, will be submitting the following information collection request to the Office of Management and Budget (OMB) for review and approval in accordance with the Paperwork Reduction Act of 1995.

DATES: Comments are encouraged and will be accepted for 60 days until September 27, 2022

FOR FURTHER INFORMATION CONTACT: If you have additional comments especially on the estimated public burden or associated response time, suggestions, or need a copy of the proposed information collection instrument with instructions or additional information, please contact Libby Stern, Research Chemist, Federal Bureau of Investigation Laboratory Division, Research and Support Unit, 2501 Investigation Ave, Quantico, VA 22135, geophysics@fbi.gov, 703-632-7825.

SUPPLEMENTARY INFORMATION: Written comments and suggestions from the public and affected agencies concerning the proposed collection of information are encouraged. Your comments should address one or more of the following four points:

➢ Evaluate whether the proposed collection of information is necessary for the proper performance of the functions of the Federal Bureau of Investigation, Laboratory Division-RSU, including whether the information will have practical utility;

➢ Evaluate the accuracy of the agency's estimate of the burden of the proposed collection of information, including the validity of the methodology and assumptions used;

➢ Evaluate whether and if so how the quality, utility, and clarity of the information to be collected can be enhanced; and

➢ Minimize the burden of the collection of information on those who are to respond, including through the use of appropriate automated, electronic, mechanical, or other technological collection techniques or other forms of information technology, e.g., permitting electronic submission of responses.

Overview of This Information Collection

1. Type of Information Collection: New collection.

2. The Title of the Form/Collection: Law Enforcement Use of Geophysical Methods.

3. The agency form number, if any, and the applicable component of the Department sponsoring the collection: FBI IRB number 645-22. The applicable component within the Department of Justice is the Laboratory Division-RSU, Federal Bureau of Investigation.

4. Affected public who will be asked or required to respond, as well as a brief abstract: Federal Government, State, Local or Tribal Government. This questionnaire is to gather information from active and retired law enforcement on the applications of geophysical methodologies, such as ground penetrating radar (GPR) and magnetometers, to detect concealed targets (for example: homicide graves, drugs, or weapons) as part of criminal investigations. The respondents will give insight on who performed the geophysical surveys, the suspected targets, the survey environment, along with summaries of 1 to 3 geophysical surveys conducted. The results may be published and used to understand practical uses of geophysical methods for law enforcement investigations.

5. An estimate of the total number of respondents and the amount of time estimated for an average respondent to respond: We expect no more than 100 individuals completing the questionnaire. On average we expect an average of 10-15 minutes to complete the survey.

6. An estimate of the total public burden (in hours) associated with the collection: The estimated public burden associated with this collection is 25 hours.

If additional information is required contact: Robert Houser, Assistant Director, Policy and Planning Staff, Justice Management Division, Department of Justice, Two Constitution Square, 145 N Street NE, 3E.206, Washington, DC 20530.

Dated: July 22, 2022.
Robert Houser,
Assistant Director, Policy and Planning Staff, Office of the Chief Information Officer, U.S. Department of Justice.

[FR Doc. 2022-16327 Filed 7-28-22; 8:45 am]

BILLING CODE 4410-02-P